DEPARTMENT OF TRANSPORTATION

Federal Aviation Administration

14 CFR Part 61

[Docket No.: FAA-2020-0312]

Enforcement Policy for Expired Airman Medical Certificates

AGENCY: Federal Aviation Administration (FAA), Department of Transportation (DOT).

ACTION: Notification of enforcement policy.

SUMMARY: Due to extraordinary circumstances related to the Novel Coronavirus Disease (COVID-19) pandemic, until June 30, 2020, the Federal Aviation Administration (FAA) will not take legal enforcement action against any person serving as a required pilot flight crewmember or flight engineer based on noncompliance with medical certificate duration standards when expiration of the required medical certificate occurs from March 31, 2020, through June 30, 2020.

DATES: The policy described herein is effective from March 31, 2020, through June 30, 2020.

FOR FURTHER INFORMATION CONTACT: James Barry, Manager, Policy/Audit/Evaluation, Enforcement Division, Office of the Chief Counsel, Federal Aviation Administration, 800 Independence Avenue SW, Washington, DC 20591; telephone: (202) 267-8198; email: james.barry@faa.gov.

SUPPLEMENTARY INFORMATION:

Background

FAA regulations set forth the requirements for, and duration of, medical certificates issued under 14 CFR part 67. A person may serve as a required pilot flight crewmember of a civil aircraft only if that person holds the appropriate unexpired medical certificate issued under 14 CFR part 67 (or other documentation acceptable to the FAA).¹ The duration of a medical certificate issued to a required pilot flight crewmember depends on the age of the applicant at the date of the examination, the type of operation, and class of certificate.² In addition, a person may serve as a flight engineer of a civil aircraft only if that person holds an unexpired second-class (or higher) medical certificate issued under 14 CFR part 67 (or other documentation acceptable to the FAA).³ To receive a new medical certificate, a person must submit to a medical examination given by an aviation medical examiner.⁴ Regardless of whatever day a medical certificate is issued, all medical certificates expire at the end of the last day of the month of expiration.⁵

¹ See 14 CFR 61.2(a)(5), 61.3(c)(1).

² See 14 CFR 61.23.

³ See 14 CFR 63.3(b).

⁴ See 14 CFR 67.3, 67.4, 67.405.

⁵ See 14 CFR 61.23(d).

On March 11, 2020, the World Health Organization (WHO) characterized COVID-19 as a pandemic, as the rates of infection continued to rise in many locations around the world and across the United States. On March 13, 2020, the President declared that the COVID-19 outbreak in the United States constitutes a national emergency. COVID-19 cases have been reported in all 50 States as well as the District of Columbia, Puerto Rico, Guam, and the U.S. Virgin Islands.

The President's March 13, 2020, declaration observed that the spread of COVID-19 within our Nation's communities threatens to strain our Nation's healthcare systems. Widespread transmission of COVID-19 could translate into large numbers of people needing medical care at the same time. The Centers for Disease Control and Prevention (CDC) advises that healthcare facilities and clinicians should prioritize urgent and emergency visits and procedures now and for the coming several weeks. The CDC's advice includes rescheduling elective and non-urgent admissions, and postponing routine dental and eye care visits. Additionally, the President and the White House Coronavirus Task Force have announced a program called “15 Days to Slow the Spread,” a nationwide effort to slow the spread of COVID-19 in the United States through the implementation of social distancing at all levels of society.

Statement of Policy

It is not in the public interest at this time to maintain the requirement of an FAA medical examination, which is a nonemergency medical service, in order for pilots and flight engineers with expiring medical certificates to obtain new medical certificates. This is because of the burden that COVID-19 places on the U.S. healthcare system, and because these aviation medical examinations increase the risk of transmission of the virus through personal contact between the physician and the applicant for an airman medical certificate.

Accordingly, as an exercise of the FAA's enforcement discretion, through June 30, 2020, the FAA will not take legal enforcement action against any person serving as a required pilot flight crewmember or flight engineer based on noncompliance with medical certificate duration standards when expiration of the medical certificate occurs from March 31, 2020, through June 30, 2020. This discretionary accommodation does not apply to pilots or flight engineers who lacked an unexpired medical certificate as of March 31, 2020. Also, regardless of the date of expiration of a medical certificate, this accommodation does not commit to non-enforcement for noncompliance with medical certificate duration standards that occurs after June 30, 2020. This policy applies only to holders of an FAA-issued medical certificate serving as a required pilot flight crewmember or flight engineer within the United States. It does not apply to holders of an FAA-issued medical certificate serving as a required pilot flight crewmember or flight engineer outside the United States.

The FAA has determined that those persons subject to this temporary measure may operate beyond the validity period of their medical certificate during the effective period of this accommodation without creating a risk to aviation safety that is unacceptable under the extraordinary circumstances surrounding the COVID-19 pandemic. The FAA will reevaluate this decision as circumstances unfold, to determine whether an extension or other action is needed to address this pandemic-related challenge.

The relief provided in this notification does not extend to the requirements of 14 CFR 61.53 and 63.19 regarding prohibition on operations during medical deficiency. These prohibitions remain critical for all pilots and flight engineers to observe, especially given the policy of emergency accommodation announced here and the health threat of COVID-19. Accordingly, the FAA emphasizes that under 14 CFR 61.53, no person who holds a medical certificate issued under 14 CFR part 67 may act as a required pilot flight crewmember while that person: (1) Knows or has reason to know of any medical condition that would make the person unable to meet the requirements for the medical certificate necessary for the pilot operation; or (2) is taking medication or receiving other treatment for a medical condition that results in the person being unable to meet the requirements for the medical certificate necessary for the pilot operation. Additionally, under 14 CFR 63.19, no person may serve as a flight engineer during a period of known physical deficiency, or increase in physical deficiency, that would make the flight engineer unable to meet the physical requirements for an unexpired medical certificate.

All required pilot flight crewmembers and flight engineers are to comply with all other applicable obligations under the FAA's regulations and other applicable laws. This notification creates no individual rights of action and establishes no precedent for future determinations.

Issued in Washington, DC, on March 26, 2020.
Naomi Tsuda,
Assistant Chief Counsel for Enforcement, Federal Aviation Administration.

[FR Doc. 2020-06784 Filed 3-30-20; 8:45 am]

BILLING CODE 4410-09-P